SECURITIES AND EXCHANGE COMMISSION

[Release No. 34-53942A; File No. SR-Amex-2006-38]

Self-Regulatory Organizations; American Stock Exchange LLC; Notice of Filing and Order Granting Accelerated Approval of Proposed Rule Change and Amendment No. 1 Thereto Relating to Locked Markets

June 20, 2006.

Correction

In FR Document No. 06-5372 beginning on page 34404 for Wednesday, June 14, 2006, the 34 Release number was incorrectly stated. The correct number is 34-53942.

Nancy M. Morris,
Secretary.

[FR Doc. 06-5640 Filed 6-23-06; 8:45 am]

BILLING CODE 8010-01-M